ENVIRONMENTAL PROTECTION AGENCY

40 CFR Part 63

[AD-FRL-6706-2]

National Emission Standards for Hazardous Air Pollutants for Source Categories

AGENCY: Environmental Protection Agency (EPA).

ACTION: Withdrawal of interpretative rule.

SUMMARY: The EPA is withdrawing the interpretative rule published in the Federal Register on April 21, 2000, at 65 FR 21363. That interpretative rule was intended to clarify the construction by EPA of the applicability of sections 112(g) and 112(j) of the Clean Air Act (CAA) to all stationary combustion turbines and waste heat recovery units in combined cycle systems.

An administrative error led to publication of a preliminary draft of the interpretative rule, rather than the final interpretative rule EPA intended to publish. Concurrent with this withdrawal of the incorrect version of the interpretative rule published on April 21, 2000, EPA is publishing elsewhere in today's Federal Register a corrected version of the interpretative rule.

DATES: On May 25, 2000, EPA hereby withdraws the interpretative rule published at 65 FR 21363. The corrected interpretative rule will become legally effective on June 26, 2000.

FOR FURTHER INFORMATION CONTACT: For further information, contact Sims Roy, Combustion Group, Emission Standards Division (MD-13), U.S. Environmental Protection Agency, Research Triangle Park, North Carolina 27711, telephone number: (919) 541-5263, facsimile: (919) 541-5450, electronic mail address: roy.sims@epa.gov.

Dated: May 18, 2000.
Robert Perciasepe,
Assistant Administrator, Office of Air and Radiation.

[FR Doc. 00-13197 Filed 5-24-00; 8:45 am]

BILLING CODE 6560-50-P